DEPARTMENT OF ENERGY

Federal Energy Regulatory Commission

[Docket No. CP06-53-000]

Eastern Shore Natural Gas Company; Notice of Application

January 31, 2006.

Take notice that on January 20, 2006, Eastern Shore Natural Gas Company (Eastern Shore), 417 Bank Lane, Dover, Delaware 19904, filed in Docket No. CP06-53-000, an application pursuant to section 7(c) of the Natural Gas Act (NGA), for a certificate of public convenience and necessity to construct and operate certain pipeline and measuring station facilities, with appurtenances, located in Pennsylvania and Delaware in order to expand the capacity of Eastern Shore's system, all as more fully set forth in the request which is on file with the Commission and open to public inspection.

Specifically, Eastern Shore proposes to construct and operate, in three phases, 55-miles of mainline extension and looping and construct and operate two new delivery points. The additional capacity created by the proposed facilities will be utilized to serve high-priority residential and commercial customer market growth in Eastern Shore's market area. The construction and operation of the proposed facilities will provide additional peak day capacity on Eastern Shore's system of 47,350 dekatherms per day at an estimated cost of $33,606,460.

Any questions regarding this application should be directed to Elaine B. Bittner, Vice President, Eastern Shore Natural Gas Company, 417 Bank Lane, Dover, Delaware 19904, or call at (302) 734-6710 ext. 6016.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

Comments, protests and interventions may be filed electronically via the Internet in lieu of paper. See, 18 CFR 385.2001(a)(1)(iii) and the instructions on the Commission's Web site under the “e-Filing” link.

Comment Date: February 21, 2006.

Magalie R. Salas,
Secretary.

[FR Doc. E6-1664 Filed 2-7-06; 8:45 am]

BILLING CODE 6717-01-P